DEPARTMENT OF THE INTERIOR

Geological Survey

Technology Transfer Act of 1986

AGENCY: United States Geological Survey, Interior.

ACTION: Notice of proposed cooperative research and development agreement (CRADA) negotiations.

SUMMARY: The United States Geological Survey (USGS) is contemplating entering into a Cooperative Research and Development Agreement (CRADA) with Williamson & Associates, to commercialize a new marine induced polarization technology.

INQUIRIES: If any other parties are interested in similar activities with the USGS, please contact: Jeff Wynn, U.S. Geological Survey, 954 National Center, Reston, VA 20192

SUPPLEMENTARY INFORMATION: This notice is to meet the USGS requirement stipulated in the Survey Manual.

Dated: June 21, 2000.
P. Patrick Leahy,
Chief Geologist.

[FR Doc. 00-17215 Filed 7-06-00; 8:45 am]

BILLING CODE 4310-Y7-M